DEPARTMENT OF ENERGY

10 CFR Part 431

[Docket No. EERE-2014-BT-TP-0006]

RIN 1904-AD16

Energy Conservation Program for Certain Commercial and Industrial Equipment: Test Procedure for Commercial Packaged Boilers

AGENCY: Office of Energy Efficiency and Renewable Energy, Department of Energy.

ACTION: Request for information (RFI); reopening of the comment period.

SUMMARY: The U.S. Department of Energy (DOE) has initiated a rulemaking and data collection process to consider amendments to DOE's test procedures for commercial packaged boilers, starting with an RFI published in the Federal Register on February 20, 2014. As part of that process, DOE is considering the potential for adoption of part-load efficiency measurement as part of this test procedure rulemaking and welcomes comment on a variety of related issues. Due to technical difficulties with the email address for the RFI, this document announces a new email address to submit comments, data, and information, and reopens the comment period through April 16, 2014.

DATES: DOE will accept written comments, data, and information regarding the test procedure for commercial packaged boilers published February 20, 2014 (79 FR 9643) received on or before April 16, 2014.

ADDRESSES: Interested persons are encouraged to submit comments electronically. However, interested persons may submit written comments, data, and other related information regarding the RFI for commercial packaged boilers, identified by docket number EERE-2014-BT-TP-0006 or Regulation Identifier Number (RIN) 1904-AD16, by any of the following methods:

• Federal eRulemaking Portal: www.regulations.gov. Follow the instructions for submitting comments.

• Email: commercial_packaged_boilers@ee.doe.gov. Include docket number EERE-2014-BT-TP-0006 and/or RIN 1904-AD16 in the subject line of the message. All comments should clearly identify the name, address, and, if appropriate, organization of the commenter. Submit electronic comments either in WordPerfect, Microsoft Word, portable document format (PDF), or American Standard Code for Information Interchange (ASCII) file format, and avoid the use of special characters or any form of encryption.

• Postal Mail: Ms. Brenda Edwards, U.S. Department of Energy, Building Technologies Office, Mailstop EE-5B, Framework Document for Commercial and Industrial Air Compressors, Docket No. EERE-2014-BT-TP-0006 and/or RIN 1904-AD16, 1000 Independence Avenue SW., Washington, DC 20585-0121. If possible, please submit all items on a compact disc (CD), in which case it is not necessary to include printed copies. (Please note that comments sent by mail are often delayed and may be damaged by mail screening processes.)

• Hand Delivery/Courier: Ms. Brenda Edwards, U.S. Department of Energy, Building Technologies Office, Sixth Floor, 950 L'Enfant Plaza SW., Washington, DC 20024. Telephone: (202) 586-2945. If possible, please submit all items on a CD, in which case it is not necessary to include printed copies.

Instructions: All submissions received must include the agency name and docket number and/or RIN for this rulemaking. No telefacsimilies (faxes) will be accepted.

Docket: The docket is available for review at www.regulations.gov, and will include Federal Register notices, public meeting attendee lists and transcripts, comments, and other supporting documents/materials throughout the rulemaking process. All documents in the docket are listed in the www.regulations.gov index. However, not all documents listed in the index may be publicly available, such as information that is exempt from public disclosure.

A link to the docket Web page can be found at: http://www1.eere.energy.gov/buildings/appliance_standards/rulemaking.aspx?ruleid=87. This Web page contains a link to the docket for this notice on the www.regulations.gov site. The www.regulations.gov Web page contains instructions on how to access all documents, including public comments, in the docket.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: commercial_packaged_boilers@ee.doe.gov.

Mr. Eric Stas, U.S. Department of Energy, Office of the General Counsel, GC-71, 1000 Independence Avenue SW., Washington, DC 20585-0121. Telephone: (202) 586-9507. Email: Eric.Stas@hq.doe.gov.

For information on how to submit or review public comments, contact Ms. Brenda Edwards, U.S. Department of Energy, Office of Energy Efficiency and Renewable Energy, Building Technologies Office, EE-5B, 1000 Independence Avenue SW., Washington, DC 20585-0121. Telephone (202) 586-2945. Email: Brenda.Edwards@ee.doe.gov.

SUPPLEMENTARY INFORMATION: On February 20, 2014, DOE published a notice in the Federal Register announcing a request for information about test procedures for commercial packaged boilers. 79 FR 9643. The notice requested that comments, data, and information be submitted to CommPackagedBoilers2014TP0006@ee.doe.gov on or before the close of the comment period March 24, 2014. Due to technical difficulties associated with the rulemaking inbox established in the Federal Register notice and in order to provide interested parties with an adequate opportunity to submit their comments and related information, DOE has established a new email address where interested parties may submit comments to commercial_packaged_boilers@ee.doe.gov and has determined that it is appropriate to reopen the comment period. Accordingly, DOE is hereby reopening the comment period and will consider any comments received on or before April 16, 2014 to be timely submitted. DOE continues to seek comment on a variety of issues it has identified; these issues mainly concern part-load operation and efficiency, appropriate operating conditions both for part-load and full-load operation, and the integration of part-load measurements into the applicable energy efficiency metric. Although DOE welcomes comment on all aspects of its test procedure, DOE is particularly interested in receiving comments and data from stakeholders and the public on these topics.

Issued in Washington, DC, on March 31, 2014.
Kathleen B. Hogan,
Deputy Assistant Secretary for Energy Efficiency, Energy Efficiency and Renewable Energy.

[FR Doc. 2014-07683 Filed 4-7-14; 8:45 am]

BILLING CODE 6450-01-P